DEPARTMENT OF THE INTERIOR

Fish and Wildlife Service

Endangered and Threatened Species; Permits

AGENCY: Fish and Wildlife Service, Interior.

ACTION: Issuance of permits for take of endangered species.

SUMMARY: Notice is hereby given that the U.S. Fish and Wildlife Service (Service) has taken the following action(s) with regard to incidental take and recovery permit applications received under the authority of section 10 of the Endangered Species Act (16 U.S.C. 1539, et seq.), as amended.

Applicant name | Permit No. | Date issued
Recovery Permits
U.S. Fish & Wildlife Service, Region 3 | 697830 | 12/19/2005
Organization for Bat Conservation | 117493 | 12/19/2005
Mandernack, Brett | 097358 | 12/19/2005
Environmental Solutions and Innovations, Inc | 023664 | 1/11/2006
Natural Resources Research Institute | 118421 | 1/11/2006
Carter, Timothy C | 040881 | 2/13/2006
U.S. National Park Service | 120260 | 2/13/2006
The Nature Conservancy | 094221 | 3/13/2006
Ahlstedt, Steven A | 113009 | 4/4/2006
Helms, Don R | 839777 | 4/5/2006
U.S. Fish and Wildlife Service | 023308 | 4/5/2006
Northern Illinois University | 069293 | 4/5/2006
U.S. Geological Survey | 118449 | 4/7/2006
Evans, David L | 124702 | 4/7/2006
Davey Resource Group | 085017 | 4/26/2006
Applied Science & Technology, Inc | 125648 | 4/27/2006
Tragus Environmental Consulting, Inc | 105320 | 4/28/2006
Wisconsin Department of Natural Resources | 111360 | 5/3/2006
Yanek, Melissa L | 100141 | 5/3/2006
Ewert, David N | 120256 | 5/5/2006
Michigan Department of Natural Resources | 111357 | 5/8/2006
Bat Conservation and Management, Inc | 126861 | 5/15/2006
Civil and Environmental Consultants, Inc | 118259 | 5/15/2006
Ohio Department of Natural Resources | 101451 | 5/22/2006
Macalester College | 089872 | 5/22/2006
USDA Forest Service | 127643 | 5/23/2006
The Nature Conservancy | 127441 | 5/23/2006
Krynak, Timothy J | 004812 | 5/25/2006
BHE Environmental, Inc | 809227 | 5/26/2006
Whitaker, John O | 839763 | 5/26/2006
Eric R. Britzke | 023666 | 5/26/2006
WDH Ecological Services | 128263 | 5/30/2006
Cuthbert, Francesca J | 125333 | 5/31/2006
Timpone, John Charles | 120231 | 5/31/2006
Yates, Mark D | 057462 | 6/9/2006
R.D. Zande & Associates | 128304 | 6/9/2006
Scott, Debra Ann | 108952 | 6/13/2006
Barton, Barbara Jean | 104664 | 6/14/2006
Robbins, Lynn W | 840524 | 6/14/2006
Minnesota Department of Natural Resources | 129763 | 6/15/2006
Ecological Specialists, Inc | 838055 | 6/26/2006
Incidental Take Permits
Indiana-American Water Company, Inc | 106231 | 3/6/2006
Northern Indiana Public Service Company | 106233 | 3/6/2006
Predevelopment Ltd | 117661 | 12/21/2005

Each permit listed above was issued only after it was determined that it was applied for in good faith; that by granting the permit would not be to the disadvantage of the listed species; and that terms and conditions of the permit were consistent with purposes and policy set forth in the Endangered Species Act of 1973, as amended.

ADDRESSES: Mr. Peter Fasbender, Regional Permits Coordinator, 1 Federal Drive, Fort Snelling, Minnesota 55111-4056.

FOR FURTHER INFORMATION CONTACT: Additional information on the permits may be requested by contacting Mr. Peter Fasbender, at (612) 713-5343, or peter_fasbender@fws.gov.

Dated: June 29, 2006.
Sean Marsan,
Acting Assistant Regional Director, Ecological Services, Region 3, Fort Snelling, Minnesota.

[FR Doc. 06-6153 Filed 7-11-06; 8:45 am]

BILLING CODE 4310-55-P